DEPARTMENT OF ENERGY

Federal Energy Regulatory Commission

[Project No. 2445-028]

Green Mountain Power Corporation; Notice of Meeting

a. Project Name and Number: Center Rutland Hydroelectric Project No. 2445-028.

b. Applicant: Green Mountain Power Corporation.

c. Date and Time of Meeting: Monday, July 22, 2024, from 9:00 a.m. to 10:00 a.m. Eastern Standard Time.

d. FERC Contact: Amanda Gill, (202) 502-6773, amanda.gill@ferc.gov.

e. Purpose of Meeting: Commission staff will hold a meeting with representatives from the Vermont Department of Historic Preservation (Vermont DHP) to discuss Commission staff's draft Programmatic Agreement and the Area of Potential Effects for the Center Rutland Project, pursuant to section 106 of the National Historic Preservation Act. The meeting will be held virtually via Microsoft Teams.

f. All local, State, and Federal agencies, Indian Tribes, and other interested parties are invited to participate. If meeting attendees decide to disclose information about a specific location that could create a risk or harm to an archaeological site or Native American cultural resource, attendees other than Vermont DHP, Tribal representatives, and Commission staff will be excused for that portion of the meeting.

g. A summary of the meeting will be placed in the public record of this proceeding. As appropriate, the meeting summary will include both a public, redacted version that excludes any information about the specific location of any archaeological site or Native American cultural resource and an unredacted privileged version. Parties planning to attend the meeting should notify Amanda Gill at (202) 502-6773 or amanda.gill@ferc.gov by Friday, July 19, 2024 to RSVP and to receive specific instructions for logging in to the meeting.

Dated: July 8, 2024.
Debbie-Anne A. Reese,
Acting Secretary.

[FR Doc. 2024-15362 Filed 7-11-24; 8:45 am]

BILLING CODE 6717-01-P